DEPARTMENT OF COMMERCE

National Oceanic and Atmospheric Administration

RIN 0648-XV71

New England Fishery Management Council; Public Meeting

AGENCY: National Marine Fisheries Service (NMFS), National Oceanic and Atmospheric Administration (NOAA), Commerce.

ACTION: Notice of a public meeting.

SUMMARY: The New England Fishery Management Council (Council) will hold a three-day Council meeting on April 27-29, 2010 to consider actions affecting New England fisheries in the exclusive economic zone (EEZ).

DATES: The meeting will begin on each of the three days at 8:30 a.m.

ADDRESSES: The meeting will be held at the Mystic Hilton Hotel, 20 Coogan Boulevard, Mystic, CT 06355; telephone: (860) 572-0731; fax: (860) 572-0328.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Tuesday, April 27, 2010

Following any introductions and announcements, the Council meeting will begin with a series of brief reports from the Council Chairman and Executive Director, the NOAA Fisheries Northeast Regional Administrator, Northeast Fisheries Science Center and Mid-Atlantic Fishery Management Council liaisons, as well as NOAA General Counsel, representatives of the U.S. Coast Guard and the Atlantic States Marine Fisheries Commission and NOAA Enforcement. These reports will be followed by a review of any experimental fishery permit applications that have been received since the last Council meeting. There will be a brief review of several policy changes to the Council's Handbook and a vote on those changes. The Herring Committee will then report on the details of its recommendation concerning the timing of the next Atlantic herring benchmark assessment, as well as provide the full Council with an overview of discussions to date on the development of Amendment 5 to the Atlantic Herring Fishery Management Plan (FMP). Following a lunch break the Habitat Committee will review the development of Omnibus Amendment 2 management alternatives to minimize any adverse effects of fishing on essential fish habitat. The Monkfish Committee will ask for approval of final action on Amendment 5 to the Monkfish FMP. Measures under consideration include annual catch limits and accountability measures, along with days-at-sea and trip limits for 2011-2013 and other modifications.

Wednesday, April 28, 2010

The second day of the Council meeting will begin with a review of the most recent Interspecies Committee discussions. Topics will include fishery management plan restructuring and/or consolidation; setting accumulation limits for the Northeast multispecies fishery, including possible control dates for the limits to become effective; and a committee work plan.

There will be a presentation by scientists from the Universities of CT and RI titled “Goals and Concerns of Fishery Stakeholder in the Development of Catch Share Management in NE.” The Council's Scientific and Statistical Committee (SSC) will report after a lunch break on its recommendations for revised skate and red crab Acceptable Biological Catch levels. The Council will consider action for both the Skate and Red Crab FMPs after the SSC report. Fishery management measures in each plan may be modified.

Thursday, April 29, 2010

The Council's Groundfish Committee will discuss and possibly select alternative rebuilding strategies for Georges Bank yellowtail flounder as well as the vessel buyback provisions in the reauthorized Magnuson-Stevens Fishery Conservation and Management Act. During this report the Council also will consider a process for the approval of additional management sectors in the Northeast multispecies fishery for 2011. Following this agenda item, the there will be an open period for public comments on issues related to fisheries management issues, but not listed on the meeting agenda. During the afternoon session, the Council plans on an update from the Joint Groundfish/Scallop Committee. The committee has been tasked with development of an amendment to facilitate the transfer of groundfish landings between the multispecies and scallop fisheries. Draft goals and objectives and initial identification of measures may be included under this topic. Before meeting adjournment, the Council may address any other outstanding business related to this meeting.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: April 5, 2010.
Tracey L. Thompson,
Acting Director, Office of Sustainable Fisheries, National Marine Fisheries Service.

[FR Doc. 2010-7996 Filed 4-7-10; 8:45 am]

BILLING CODE 3510-22-S